DEPARTMENT OF HEALTH AND HUMAN SERVICES

Centers for Disease Control and Prevention

Closed-Circuit Escape Respirators; Approval of Cap 3 Device for Underground Coal Mining

AGENCY: National Institute for Occupational Safety and Health (NIOSH) of the Centers for Disease Control and Prevention (CDC), Department of Health and Human Services (HHS).

ACTION: Notice.

SUMMARY: The National Institute for Occupational Safety and Health (NIOSH) and the Mine Safety and Health Administration (MSHA) have approved the first large-capacity (Cap 3) closed-circuit escape respirator (CCER) for use in underground coal mining, under the NIOSH new regulatory standard. Accordingly, respirator manufacturers may continue to manufacture, label, and sell large-capacity CCERs approved under the former regulatory standard (those CCERs with a rated service time of greater than 50 minutes) for underground coal mining approved under the former regulatory standard until January 4, 2017.

FOR FURTHER INFORMATION CONTACT: David Chirdon, NIOSH National Personal Protective Technology Laboratory (NPPTL), 626 Cochrans Mill Road, Pittsburgh, PA 15236; 412-386-4000 (this is not a toll-free phone number).

SUPPLEMENTARY INFORMATION: In March 2012, the Department of Health and Human Services (HHS) published a final rule establishing a new standard, codified in 42 CFR part 84, subpart O, for the certification of closed-circuit escape respirators (CCERs) by the National Institute for Occupational Safety and Health (NIOSH) within the Centers for Disease Control and Prevention (CDC). The new standard was originally designed to take effect over a 3-year transition period. However, in a final rule published on August 12, 2015, HHS determined that extending the concluding date for the transition was necessary to allow sufficient time for respirator manufacturers to meet the demands of the mining, maritime, railroad, and other industries.¹ Pursuant to the August 2015 final rule, the continued manufacturing, labeling, and selling of CCERs approved under the former standard in Subpart H was authorized until either April 9, 2015 or 1 year after the date that NIOSH first approves a CCER model under the capacity rating categories Cap 1 (for mining applications) and Cap 3 (mining and non-mining) described in 42 CFR 84.304, whichever date came later.

¹ 80 FR 48268.

In accordance with 42 CFR 84.301, NIOSH and the Mine Safety and Health Administration (MSHA) have approved the first large-capacity (Cap 3) CCER for use in underground coal mining, under the standards published in 42 CFR part 84, subpart O. Approval number TC-13G-0005 was issued to Ocenco, Inc., on January 4, 2016 for a Cap 3 CCER, Model EBA 75 CCER for Mining. Pursuant to 42 CFR 84.301, manufacturers may continue to manufacture, label, and sell large-capacity CCERs approved under the former regulatory standard in subpart H (those CCERs with a rated service time of greater than 50 minutes) for mining, until 1 year after this approval date, or until January 4, 2017.

All types of CCERs approved under subpart H that were manufactured and labeled as NIOSH-approved and sold by April 9, 2015, as well as those units manufactured and labeled as NIOSH-approved and sold during the extended time periods pursuant to § 84.301, may continue to be used as NIOSH-approved respirators until the end of their service life.

Dated: February 1, 2016.
John Howard,
Director, National Institute for Occupational Safety and Health, Centers for Disease Control and Prevention.

[FR Doc. 2016-02649 Filed 2-9-16; 8:45 am]

BILLING CODE 4163-19-P